EXPORT IMPORT BANK OF THE UNITED STATES

Committee Management; Notice of Establishment

AGENCY: Export Import Bank of the United States.

ACTION: Notice of establishment of advisory committee.

SUMMARY: The Vice Chairman and First Vice President of the Export-Import Bank of the United States (“Ex-Im Bank”) has determined that the establishment of the Sub-Saharian Africa Advisory Committee (“Committee”) is necessary and in the public interest in connection with the mission of the Ex-Im Bank, pursuant to sections 2(b)(9) of the Export-Import Bank Act of 1945, as amended (12 U.S.C. 635(b)(9)). This determination follows consultation with the Committee Management Secretariat, General Service Administration.

The Committee will consist of ten member who will provide advice and recommendations to Ex-Im Bank concerning programs in Sub-Saharian Africa. Ex-Im Bank will achieve balanced membership on the Committee by inviting a broad cross-section of parties with an interest in Sub-Saharian Africa to serve on the Committee.

The Committee will operate on a continuing basis.

ADDRESSES: Export Import Bank of the United States, 811 Vermont Ave., NW., Washington, DC 20571.

FOR FURTHER INFORMATION CONTACT: James Lambright, Export Import Bank of the United States at (202) 565-3515.

Dated: February 11, 2002.
James Lambright,
Designated Federal Officer.

[FR Doc. 02-11324 Filed 5-7-02; 8:45 am]

BILLING CODE 6690-01-M